SOCIAL SECURITY ADMINISTRATION

20 CFR Part 404

Revised Medical Criteria for Evaluating Cancer (Malignant Neoplastic Diseases)

CFR Correction

In Title 20 of the Code of Federal Regulations, Parts 400 to 499, revised as of April 1, 2017, on page 541, in Part 404, Subpart P, Appendix 1, under 13.02, paragraph B., the second “OR” is removed and under 13.03, paragraphs B.1. and B.2. are removed.

[FR Doc. 2018-05240 Filed 3-13-18; 8:45 am]

BILLING CODE 1301-00-D